DEPARTMENT OF VETERANS AFFAIRS

Advisory Committee on Disability Compensation, Notice of Meeting

The Department of Veterans Affairs gives notice under 92 (Federal Advisory Committee Act) that the meeting of the Advisory Committee on Disability Compensation scheduled to be held at VA Central Office, 810 Vermont Avenue NW., Washington, DC on March 3-4, 2014 has been cancelled.

For more information, please contact Ms. Nancy Copeland, Designated Federal Officer at (202) 461-9684.

Dated: March 3, 2014.
Jelessa Burney,
Committee Management Officer.

[FR Doc. 2014-04943 Filed 3-6-14; 8:45 am]

BILLING CODE 8320-01-P